CORPORATION FOR NATIONAL AND COMMUNITY SERVICE

Information Collection; Submission for OMB Review; Comment Request

AGENCY: Corporation for National and Community Service.

ACTION: Notice.

SUMMARY: The Corporation for National and Community Service (hereinafter the ”Corporation”), has submitted a public information collection request (ICR) entitled Accomplishment Surveys for Senior Corps Programs to the Office of Management and Budget (OMB) for review and approval in accordance with the Paperwork Reduction Act of 1995, Pub. L. 104-13, (44 U.S.C. Chapter 35). Copies of this ICR, with applicable supporting documentation, may be obtained by calling the Corporation for National and Community Service, Mr. Nathan Dietz, at (202) 606-6663, (Ndietz@cns.gov). Individuals who use a telecommunications device for the deaf (TTY-TDD) may call (202) 606-3472 between 8:30 a.m. and 5 p.m. Eastern time, Monday through Friday.

ADDRESSES: Comments may be submitted, identified by the title of the information collection activity, to Office of Information and Regulatory Affairs, Attn: Ms. Katherine Astrich, OMB Desk Officer for the Corporation for National and Community Service, by any of the following two methods within 30 days from the date of publication in this Federal Register:

(a) By fax to: (202) 395-6974, Attention: Ms. Katherine Astrich, OMB Desk Officer for the Corporation for National and Community Service; and

(b) Electronically by e-mail to: Katherine_Astrich@omb.eop.gov.

SUPPLEMENTARY INFORMATION: The OMB is particularly interested in comments which:

• Evaluate whether the proposed collection of information is necessary for the proper performance of the functions of the Corporation, including whether the information will have practical utility;

• Evaluate the accuracy of the Corporation's estimate of the burden of the proposed collection of information, including the validity of the methodology and assumptions used;

• Propose ways to enhance the quality, utility and clarity of the information to be collected; and

• Propose ways to minimize the burden of the collection of information on those who are to respond, including the use of appropriate automated, electronic, mechanical, or other technological collection techniques or other forms of information technology, e.g., permitting electronic submissions of responses.

Comments

A 60-day public comment Notice, regarding all the component surveys of the Senior Corps Performance Surveys was published in the Federal Register on September 20, 2006. This comment period ended on December 20, 2006. No public comments were received from this notice.

Description

The Corporation seeks to renew clearance for the Accomplishment Surveys for Senior Corps Programs to collect information about Senior Corps volunteer activities and accomplishments, as well as to gather information about the practices used by the organizations that recruit, supervise and manage Senior Corps volunteers.

Type of Review: Renewal.

Agency: Corporation for National and Community Service.

Title: Accomplishment Surveys for Senior Corps Programs.

OMB Number: 3045-0049.

Agency Number: None.

Affected Public: Not-for-profit organizations.

Type of Respondents: Senior Corps volunteer station supervisors.

Total Respondents: 2,500.

Frequency: On occasion.

Estimated Total Burden Hours: 1,875 hours.

Total Burden Cost (capital/startup): None.

Total Burden Cost (operating/maintenance): None.

Dated: March 5, 2007.
Robert T. Grimm, Jr.,
Director, Office of Research and Policy Development.

[FR Doc. E7-4365 Filed 3-9-07; 8:45 am]

BILLING CODE 6050-$$-P